DEPARTMENT OF COMMERCE

Foreign-Trade Zones Board

[B-83-2014]

Foreign-Trade Zone (FTZ) 7—Mayaguez, Puerto Rico; Notification of Proposed Production Activity; IPR Pharmaceuticals, Inc. (Pharmaceutical Products); Canóvanas, Puerto Rico

The Puerto Rico Industrial Development Company, grantee of FTZ 7, submitted a notification of proposed production activity to the FTZ Board on behalf of IPR Pharmaceuticals, Inc. (IPR), located within FTZ 7, in Canóvanas, Puerto Rico. The notification conforming to the requirements of the regulations of the FTZ Board (15 CFR 400.22) was received on November 3, 2014.

IPR already has authority to produce certain pharmaceutical products, including Crestor® tablets, a treatment to lower cholesterol. The current request would add microcrystalline cellulose (input) to the scope of authority. Pursuant to 15 CFR 400.14(b), FTZ activity would be limited to the specific foreign-status components and specific finished products described in the submitted notification (as described below) and subsequently authorized by the FTZ Board.

Production under FTZ procedures could exempt IPR from customs duty payments on the microcrystalline cellulose used in export production. On its domestic sales, IPR would be able to choose the duty rates during customs entry procedures that apply to its finished Crestor® and other pharmaceutical products (duty free) for the foreign-status input, microcrystalline cellulose (duty rate, 5.2%). Customs duties also could possibly be deferred or reduced on foreign status production equipment.

Public comment is invited from interested parties. Submissions shall be addressed to the FTZ Board's Executive Secretary at the address below. The closing period for their receipt is January 5, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: November 17, 2014.
Andrew McGilvray,
Executive Secretary.

[FR Doc. 2014-27779 Filed 11-21-14; 8:45 am]

BILLING CODE 3510-DS-P